DEPARTMENT OF LABOR

Employment and Training Administration

[TA-W-38,206]

Brown Wooten Mills, Inc., Ballston Plant, Mount Airy, NC; Notice of Termination of Investigation

Pursuant to section 221 of the Trade Act of 1974, an investigation was initiated on October 16, 2000, in response to a worker petition which was filed on October 16, 2000, on behalf of workers at Brown Wooten Mills, Inc., Ballston Plant, Mount Airy, North Carolina.

The petitioner has requested that the petition be withdrawn. Consequently, further investigation in this case would serve no purpose, and the investigation has been terminated.

Signed in Washington, DC this 28th day of December 2000.
Linda G. Poole,
Certifying Officer, Division of Trade Adjustment Assistance.

[FR Doc. 01-940 Filed 1-10-01; 8:45 am]

BILLING CODE 4510-30-M